POSTAL REGULATORY COMMISSION

Site Visits

AGENCY: Postal Regulatory Commission.

ACTION: Notice of site visits.

DATES: 1. September 16, 2009: site visit, Cleveland, Ohio. 2. September 23, 2009, site visit, Jersey City, New Jersey.

FOR FURTHER INFORMATION CONTACT: Stephen L. Sharfman, 202-789-6820 or steven.sharfman@prc.gov.

SUPPLEMENTARY INFORMATION: This notice informs the public of two site visits by Commissioners, assistants and other designated staff members. One visit is to the American Greetings Corporation, One American Way, Cleveland, Ohio 44144, on Wednesday, September 16, 2009.

The other is to the U.S. Postal Service's New Jersey Network Distribution Center, 80 County Road, Jersey City, New Jersey 07097-9998, on Wednesday, September 23, 2009.

The purpose of the visits is to increase familiarity with mailing practices and postal operations. For further information, contact Stephen L. Sharfman, 202-789-6820 or stephen.sharfman@prc.gov.

Dated: September 10, 2009.
Judith M. Grady,
Acting Secretary.

[FR Doc. E9-22272 Filed 9-14-09; 8:45 am]

BILLING CODE 7710-FW-P